ENVIRONMENTAL PROTECTION AGENCY

40 CFR Part 52

[KY-200215; FRL-7168-6]

Approval and Promulgation of Implementation Plans; Commonwealth of Kentucky: Approval of Revisions to the 1-Hour Ozone Maintenance State Implementation Plan for the Edmonson County and the Owensboro-Daviess County Area; Clarification

AGENCY: Environmental Protection Agency (EPA).

ACTION: Final rule; clarification.

SUMMARY: EPA is clarifying its approval of revisions to the 1-hour ozone maintenance plans for the Owensboro area (i.e., Daviess and a portion of Hancock counties), and Edmonson County portions of the Kentucky State Implementation Plan (SIP) submitted on April 16, 1998, by the Commonwealth of Kentucky through the Natural Resources and Environmental Protection Cabinet. Although not explicit in the language of the document for the approval, the Commonwealth's request and EPA's action involved the approval of an update for emission projections that were originally developed with an earlier version of the EPA mobile emissions model. That same approval action also identified the emission projections as the motor vehicle emissions budgets (or “budgets”) for nitrogen oxides (NOX) and volatile organic compounds (VOC) for use in transportation conformity determinations. However, that action did not specify for what year the “budgets” were being established. This action merely clarifies for which year the “budgets” for NOX and VOC were being established.

EFFECTIVE DATE: This clarification is effective on May 9, 2002.

FOR FURTHER INFORMATION CONTACT: Lynorae Benjamin, Air Quality Modeling and Transportation Section, Air Planning Branch, Air, Pesticides and Toxics Management Division, Region 4, Environmental Protection Agency, Atlanta Federal Center, 61 Forsyth Street, SW., Atlanta, Georgia 30303-8960. The telephone number is (404) 562-9040. Ms. Benjamin can also be reached via electronic mail at benjamin.lynorae@epa.gov.

SUPPLEMENTARY INFORMATION: The following subsections provide a brief overview of EPA's previous approval action and the clarification being provided by this action.

A. What Is the Background for This Action?

Through direct final rulemaking, published in the Federal Register on September 3, 1998, (63 FR 46894) EPA approved revisions to the 1-hour ozone maintenance plans for the Owensboro area (i.e., Daviess and Hancock counties), and Edmonson County. These revisions to the Kentucky SIP were submitted on April 16, 1998, by the Commonwealth of Kentucky. The purpose of our action was to incorporate revised motor vehicle emissions budgets for NOX and VOCs for the Owensboro area and Edmonson County, Kentucky, into the federally-approved SIP. Specifically, that SIP revision updated emission projections previously developed with the MOBILE 4.1 emissions model with emissions projections developed with the MOBILE 5a emissions model. Our approval specified that the emission projections were being considered as “budgets” to be used for demonstration of conformity of transportation plans, programs, and projects with the Kentucky SIP for the Edmonson County and Owensboro ozone maintenance areas. However, Kentucky's SIP for these areas did not explicitly specify for which years the new conformity budgets would apply.

B. Why Is EPA Taking This Action?

EPA is taking this action to provide clarity for the transportation and air quality partners in this area that work together to implement the transportation conformity rule. EPA recently reviewed all of the maintenance plans that were submitted by Kentucky in 1994 and any subsequent revisions to these maintenance plans. This review revealed that while Kentucky had included emissions projections for VOCs and NOX for several years in each of these submittals, it was only in the case of the Owensboro area and Edmonson County that EPA had approved all of these years as conformity budgets. Based on this review, EPA is taking action to correct the approval of the maintenance plans for the Owensboro area and Edmonson County. Specifically, EPA is taking this action to explicitly state that 2004 is the year for which the budgets were established by Kentucky, and that the VOC and NOX emission projections for 2004, which is the last year of the maintenance plans, are the “budgets” to be used for the purposes of transportation conformity. This action is administrative and does not involve any technical changes to the Commonwealth's previous submittal for which EPA granted approval.

C. What Are the Motor Vehicle Emissions Budgets for the Edmonson County and Owensboro Areas?

As mentioned previously, this action is administrative and does not involve any technical changes to the emission projections supplied by the State in the April 16, 1998, Kentucky SIP revision request. The following tables highlight the motor vehicle emissions budgets for NOX and VOCs for the Edmonson County and Owensboro maintenance areas in Kentucky.

2004 Motor Vehicle Emissions Budgets for Edmonson County
VOC (tons per day) | NOX (tons per day)
0.72 | 0.78

2004 Motor Vehicle Emissions Budgets for Owensboro
VOC (tons per day) | NOX (tons per day)
6.64 | 5.22

Final Action

EPA is clarifying its previous approval for revisions to the 1-hour ozone maintenance plans to the Owensboro area (i.e., Daviess and Hancock counties), and Edmonson County portions of the Kentucky SIP, which were submitted on August 16, 1998 by the Commonwealth of Kentucky. This action specifies 2004 as the “budget” year to be used for the purposes of transportation conformity.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This action also does not have tribal implications because it will not have a substantial direct effect on one or more Indian tribes, on the relationship between the Federal Government and Indian tribes, or on the distribution of power and responsibilities between the Federal Government and Indian tribes, as specified by Executive Order 13175 (65 FR 67249, November 9, 2000). This action does not have Federalism implications because it does not have substantial direct effects on the States, on the relationship between the national government and the States, or on the distribution of power and responsibilities among the various levels of government, as specified in Executive Order 13132 (64 FR 43255, August 10, 1999). This action merely clarifies EPA's approval of a state rule implementing a Federal standard, and does not alter the relationship or the distribution of power and responsibilities established in the Clean Air Act. This rule also is not subject to Executive Order 13045 “Protection of Children from Environmental Health Risks and Safety Risks” (62 FR 19885, April 23, 1997), because it is not economically significant.

In addition, since this action is only correcting a federal citation for a SIP submission that has already been approved by EPA, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by June 10, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Ozone, Reporting and recordkeeping requirements.

Authority: 42 U.S.C. 7401 et seq.

Dated: March 21, 2002.
Michael V. Peyton,
Acting Regional Administrator, Region 4.

[FR Doc. 02-8295 Filed 4-8-02; 8:45 am]

BILLING CODE 6560-50-P